PRIVACY AND CIVIL LIBERTIES OVERSIGHT BOARD

[Notice-PCLOB-2014-03; Docket No.2014-0001 Sequence No. 3]

Sunshine Act Meeting

TIME AND DATE: Wednesday, July 2, 2014 from 10:00 a.m.—11:00 a.m. (Eastern Standard Time). Confirm the date on www.pclob.gov.

PLACE: Will be announced on www.pclob.gov.

STATUS: This meeting will be open to the public.

MATTERS TO BE CONSIDERED: The Privacy and Civil Liberties Oversight Board will meet for the disposition of official business. At the meeting, the Board will be voting on the issuance of its report on the surveillance program operated pursuant to Section 702 of the Foreign Intelligence Surveillance Act. Additional information on the Board's review of this program, such as the prior public workshop and hearings, is available at www.pclob.gov.

Procedures for Public Observation

The meeting is open to the public. Pre-registration is not required. Individuals who plan to attend and require special assistance should contact Sharon Bradford Franklin, Executive Director, 202-331-1986, at least 72 hours prior to the meeting date.

CONTACT PERSON FOR MORE INFORMATION: Sharon Bradford Franklin, Executive Director, 202-331-1986.

Dated: June 17, 2014.
Peter Winn,
Acting General Counsel, Privacy and Civil Liberties Oversight Board.

[FR Doc. 2014-14603 Filed 6-18-14; 4:15 pm]

BILLING CODE 6820-B3-P